DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-048. Applicant: Whitehead Institute for Biomedical Research, 9 Cambridge Center, Cambridge, MA 02142.

Instrument: Electron Microscope, Model JEM-2200FS.

Manufacturer: JEOL Ltd., Japan. Intended Use: The instrument is intended to be used to study supramolecular protein structures such as the assembly and structure of prions, a causative agent in brain disease, and the acrosomal process, a protein machine that powers movements. Acrosome reaction will be studied to learn how the initial state stores energy and the conformation changes that release energy. Application accepted by Commissioner of Customs: September 26, 2003.

Docket Number: 03-049. Applicant: National Institutes of Health, National Cancer Institute, 50 South Drive, Building 50, Room 4306, Bethesda, MD 20892-8008. Instrument: Electron Microscope, Model Tecni G2 Polara. Manufacturer: FEI Company, The Netherlands. Intended Use: The instrument is intended to be used to study the following: (1) Structural determination of membrane proteins and membrane protein complexes at atomic resolution, (2) structural determination of macromolecular assemblies from single particle imaging studies, and (3) electron tomographic studies to visualize the 3-dimensional architecture of cells at molecular resolution. Application accepted by Commissioner of Customs: September 30, 2003.

Gerald A. Zerdy,
Program Manager, Statutory Import Programs Staff.

[FR Doc. 03-27040 Filed 10-24-03; 8:45 am]

BILLING CODE 3510-DS-P